SECURITIES AND EXCHANGE COMMISSION

[File No. 500-1]

Miracor Diagnostics, Inc., Monaco Finance, Inc., MPEL Holdings Corp. (f/k/a Computer Transceiver Systems, Inc.), MR3 Systems, Inc., Mutual Risk Management, Ltd.; Order of Suspension of Trading

June 4, 2010.

It appears to the Securities and Exchange Commission that there is a lack of current and accurate information concerning the securities of Miracor Diagnostics, Inc. because it has not filed any periodic reports since the period ended September 30, 1996.

It appears to the Securities and Exchange Commission that there is a lack of current and accurate information concerning the securities of Monaco Finance, Inc. because it has not filed any periodic reports since the period ended September 30, 1999.

It appears to the Securities and Exchange Commission that there is a lack of current and accurate information concerning the securities of MPEL Holdings Corp. (f/k/a Computer Transceiver Systems, Inc.) because it has not filed any periodic reports since September 30, 1999.

It appears to the Securities and Exchange Commission that there is a lack of current and accurate information concerning the securities of MR3 Systems, Inc. because it has not filed any periodic reports since the period ended September 30, 2005.

It appears to the Securities and Exchange Commission that there is a lack of current and accurate information concerning the securities of Mutual Risk Management Ltd. because it has not filed any periodic reports since the period ended December 31, 2001.

The Commission is of the opinion that the public interest and the protection of investors require a suspension of trading in the securities of the above-listed companies.

Therefore, it is ordered, pursuant to Section 12(k) of the Securities Exchange Act of 1934, that trading in the securities of the above-listed companies is suspended for the period from 9:30 a.m. EDT on June 4, 2010, through 11:59 p.m. EDT on June 17, 2010.

By the Commission.
Elizabeth M. Murphy,
Secretary.

[FR Doc. 2010-13823 Filed 6-4-10; 4:15 pm]

BILLING CODE 8010-01-P